DEPARTMENT OF COMMERCE

National Oceanic and Atmospheric Administration

50 CFR Part 229

[Docket No. 140325271-4271-01]

RIN 0648-BE13

List of Fisheries for 2015

AGENCY: National Marine Fisheries Service (NMFS), National Oceanic and Atmospheric Administration (NOAA), Commerce.

ACTION: Proposed rule.

SUMMARY: The National Marine Fisheries Service (NMFS) publishes its proposed List of Fisheries (LOF) for 2015, as required by the Marine Mammal Protection Act (MMPA). The proposed LOF for 2015 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

⁶⁴ Maria Rosário Partidário, Strategic Environmental Assessment (SEA)—current practices, future demands and capacity-building needs (2003) (unpublished manuscript) available at http://www.iaia.org/publicdocuments/EIA/SEA/SEAManual.pdf?AspxAutoDetectCookieSupport=1.

DATES: Comments must be received by September 24, 2014.

ADDRESSES: You may submit comments on the proposed rule, identified by “NOAA-NMFS-2014-0040” by any of the following methods:

(1) Electronic Submissions: Submit all electronic comments through the Federal eRulemaking portal: http://www.regulations.gov (follow instructions for submitting comments).

(2) Mail: Submit written comments to Chief, Marine Mammal and Sea Turtle Conservation Division, Attn: List of Fisheries, Office of Protected Resources, NMFS, 1315 East-West Highway, Silver Spring, MD 20910.

Comments regarding the burden-hour estimates, or any other aspect of the collection of information requirements contained in this rule, should be submitted in writing to Chief, Marine Mammal and Sea Turtle Conservation Division, Office of Protected Resources, NMFS, 1315 East-West Highway, Silver Spring, MD 20910, or to the Office of Information and Regulatory Affairs at OIRA_submissions@omb.eop.gov.

Instructions: All comments received are a part of the public record and will generally be posted to http://www.regulations.gov without change. All Personal Identifying Information (e.g., name, address, etc.) voluntarily submitted by the commenter may be publicly accessible. Do not submit Confidential Business Information or otherwise sensitive or protected information. NMFS will accept anonymous comments (enter “N/A” in the required fields, if you wish to remain anonymous). Attachments to electronic comments will be accepted in Microsoft Word, Excel, WordPerfect, or Adobe PDF file formats only.

FOR FURTHER INFORMATION CONTACT: Lisa White, Office of Protected Resources, 301-427-8494; Allison Rosner, Greater Atlantic Region, 978-281-9328; Jessica Powell, Southeast Region, 727-824-5312; Elizabeth Petras, West Coast Region (CA), 562-980-3238; Brent Norberg, West Coast Region (WA/OR), 206-526-6550; Kim Rivera, Alaska Region, 907-586-7424; Nancy Young, Pacific Islands Region, 808-725-5156. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387(c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: If the total annual mortality and serious injury of a marine mammal stock, across all fisheries, is less than or equal to 10 percent of the PBR level of the stock, all fisheries interacting with the stock will be placed in Category III (unless those fisheries interact with other stock(s) in which total annual mortality and serious injury is greater than 10 percent of PBR). Otherwise, these fisheries are subject to the next tier (Tier 2) of analysis to determine their classification.

Tier 2, Category I: Annual mortality and serious injury of a stock in a given fishery is greater than or equal to 50 percent of the PBR level (i.e., frequent incidental mortality and serious injury of marine mammals).

Tier 2, Category II: Annual mortality and serious injury of a stock in a given fishery is greater than 1 percent and less than 50 percent of the PBR level (i.e., occasional incidental mortality and serious injury of marine mammals).

Tier 2, Category III: Annual mortality and serious injury of a stock in a given fishery is less than or equal to 1 percent of the PBR level (i.e., a remote likelihood of or no known incidental mortality and serious injury of marine mammals).

While Tier 1 considers the cumulative fishery mortality and serious injury for a particular stock, Tier 2 considers fishery-specific mortality and serious injury for a particular stock. Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS cannot perform a tier analysis on certain fisheries. Therefore, NMFS has classified certain fisheries by analogy to other Category I or II fisheries that use similar fishing techniques or gear that are known to cause mortality or serious injury of marine mammals, or according to factors discussed in the final LOF for 1996 (60 FR 67063, December 28, 1995) and listed in the regulatory definition of a Category II fishery: “In the absence of reliable information indicating the frequency of incidental mortality and serious injury of marine mammals by a commercial fishery, NMFS will determine whether the incidental mortality or serious injury is `frequent,' `occasional,' or `remote' by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and the Atlantic Ocean, Gulf of Mexico, and Caribbean sections. To determine which species and stocks are included as incidentally killed or injured in a fishery, NMFS annually reviews the information presented in the current SARs. The SARs are based upon the best available scientific information and provide the most current and inclusive information on each stock's PBR level and level of interaction with commercial fishing operations. The best available scientific information used in the SARs reviewed for the 2015 LOF generally summarizes data from 2007-2011. NMFS also reviews other sources of new information, including injury determination reports, bycatch estimation reports, observer data, logbook data, stranding data, disentanglement network data, fisher self-reports (i.e. MMPA reports), and anecdotal reports from that time period.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each SAR includes an appendix with detailed descriptions of each Category I and II fishery on the LOF, including the observer coverage in those fisheries. The SARs generally do not provide detailed information on observer coverage in Category III fisheries because, under the MMPA, Category III fisheries are generally not required to accommodate observers aboard vessels due to the remote likelihood of mortality and serious injury of marine mammals. Fishery information presented in the SARs' appendices and other resources referenced during the tier analysis may include: Level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I and II fisheries can also be found in the Category I and II fishery fact sheets on the NMFS Office of Protected Resources' Web site: http://www.nmfs.noaa.gov/pr/interactions/lof/. Additional information on observer programs in commercial fisheries can be found on the NMFS National Observer Program's Web site: http://www.st.nmfs.gov/st4/nop/.

How do I find out if a specific fishery is in Category I, II, or III?

This rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at: http://www.nmfs.noaa.gov/ia/permits/highseas.html.

Where can I find specific information on fisheries listed on the LOF?

Starting with the 2010 LOF, NMFS developed summary documents, or fishery fact sheets, for each Category I and II fishery on the LOF. These fishery fact sheets provide the full history of each Category I and II fishery, including: When the fishery was added to the LOF, the basis for the fishery's initial classification, classification changes to the fishery, changes to the list of species and/or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/lof/, linked to the “List of Fisheries by Year” table. NMFS is developing similar fishery fact sheets for each Category III fishery on the LOF. However, due to the large number of Category III fisheries on the LOF and the lack of accessible and detailed information on many of these fisheries, the development of these fishery fact sheets is taking significant time to complete. NMFS will begin posting Category III fishery fact sheets online with the final 2015 LOF.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my authorization certificate and mortality/injury reporting forms?

NMFS has integrated the MMPA registration process, implemented through the Marine Mammal Authorization Program (MMAP), with existing state and Federal fishery license, registration, or permit systems for Category I and II fisheries on the LOF. Participants in these fisheries are automatically registered under the MMAP and are not required to submit registration or renewal materials directly under the MMAP. In the Pacific Islands, West Coast, and Alaska regions, NMFS will issue vessel or gear owners an authorization certificate and/or mortality/injury reporting forms via U.S. mail or with their state or Federal license at the time of renewal. In the Greater Atlantic Region, NMFS will issue vessel or gear owners an authorization certificate via U.S. mail automatically at the beginning of each calendar year; but vessel or gear owners must request or print mortality/injury reporting forms by contacting the NMFS Greater Atlantic Regional Office at 978-281-9328 or by visiting the Greater Atlantic Regional Office Web site (http://www.nero.noaa.gov/mmap). In the Southeast region, NMFS will issue vessel or gear owners notification of registry and vessel or gear owners may receive their authorization certificate and/or mortality/injury reporting form by contacting the Southeast Regional Office at 727-209-5952 or by visiting the Southeast Regional Office Web site (http://sero.nmfs.noaa.gov/protected_resources/marine_mammal_authorization_program/) and following the instructions for printing the necessary documents. Mortality/injury forms are also available online at http://www.nmfs.noaa.gov/pr/pdfs/interactions/mmap_reporting_form.pdf.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal permit systems distinguish between fisheries as classified by the LOF. Therefore, some vessel or gear owners in Category III fisheries may receive authorization certificates even though they are not required for Category III fisheries. Individuals fishing in Category I and II fisheries for which no state or Federal permit is required must register with NMFS by contacting their appropriate Regional Office (see ADDRESSES).

How do I renew my registration under the MMAP?

In Alaska regional and Greater Atlantic Regional fisheries, registrations of vessel or gear owners are automatically renewed and participants should receive an authorization certificate by January 1 of each new year. In Pacific Islands regional fisheries, vessel or gear owners receive an authorization certificate by January 1 for state fisheries and with their permit renewal for federal fisheries. In West Coast regional fisheries, vessel or gear owners receive authorization with each renewed state fishing license, the timing of which varies based on target species. Vessel or gear owners who participate in fisheries in these regions and have not received authorization certificates by January 1 or with renewed fishing licenses must contact the appropriate NMFS Regional Office (see ADDRESSES).

In Southeast regional fisheries, vessel or gear owners' registrations are automatically renewed and participants will receive a letter in the mail by January 1 instructing them to contact the Southeast Regional Office to have an authorization certificate mailed to them or to visit the Southeast Regional Office Web site (http://sero.nmfs.noaa.gov/protected_resources/marine_mammal_authorization_program/) to print their own certificate.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip. “Injury” is defined in 50 CFR 229.2 as a wound or other physical harm. In addition, any animal that ingests fishing gear or any animal that is released with fishing gear entangling, trailing, or perforating any part of the body is considered injured, regardless of the presence of any wound or other evidence of injury, and must be reported. Mortality/injury reporting forms and instructions for submitting forms to NMFS can be downloaded from: http://www.nmfs.noaa.gov/pr/pdfs/interactions/mmap_reporting_form.pdf or by contacting the appropriate Regional office (see ADDRESSES). Forms may be faxed directly to the NMFS Office of Protected Resources at 301-713-4060 or 301-713-0376. Reporting requirements and procedures can be found in 50 CFR 229.6.

Am I required to take an observer aboard my vessel?

Individuals participating in a Category I or II fishery are required to accommodate an observer aboard their vessel(s) upon request from NMFS. MMPA section 118 states that an observer may not be required on a vessel if the facilities for quartering an observer or performing observer functions are inadequate or unsafe; thereby exempting vessels too small to accommodate an observer from this requirement. However, observer requirements will not be exempted, regardless of vessel size, for U.S. Atlantic Ocean, Caribbean, or Gulf of Mexico large pelagics longline vessels operating in special areas designated by the Pelagic Longline Take Reduction Plan implementing regulations (50 CFR 229.36(d)). Observer requirements can be found in 50 CFR 229.7.

Am I required to comply with any marine mammal Take Reduction Plan regulations?

Table 4 in this rule provides a list of fisheries affected by TRPs and TRTs. TRP regulations can be found at 50 CFR 229.30 through 229.37. A description of each TRT and copies of each TRP can be found at: http://www.nmfs.noaa.gov/pr/interactions/trt/. It is the responsibility of fishery participants to comply with applicable take reduction regulations.

Where can I find more information about the LOF and the MMAP?

Information regarding the LOF and the Marine Mammal Authorization Program, including registration procedures and forms, current and past LOFs, information on each Category I and II fishery, observer requirements, and marine mammal mortality/injury reporting forms and submittal procedures, may be obtained at: http://www.nmfs.noaa.gov/pr/interactions/lof/, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Long Beach Office, 501 W. Ocean Blvd., Suite 4200, Long Beach, CA 90802-4213, Attn: Elizabeth Petras;

NMFS, West Coast Region, Seattle Office, 7600 Sand Point Way NE., Seattle, WA 98115, Attn: Brent Norberg, Protected Resources Division;

NMFS, Alaska Region, Protected Resources, P.O. Box 22668, 709 West 9th Street, Juneau, AK 99802, Attn: Kim Rivera; or

NMFS, Pacific Islands Regional Office, Protected Resources Division, 1845 Wasp Blvd., Building 176, Honolulu, HI 96818, Attn: Nancy Young.

Sources of Information Reviewed for the 2015 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports through the Marine Mammal Authorization Program, reports to the SRGs, conference papers, FMPs, and ESA documents.

The LOF for 2015 was based on, among other things, information provided in the NEPA and ESA documents analyzing authorized high seas fisheries; stranding data; fishermen self-reports through the MMAP; and SARs, primarily the draft 2013 SARs, which are generally based on data from 2007-2011. The final SARs referenced in this LOF include: 2007 (73 FR 21111, April 18, 2008), 2008 (74 FR 19530, April 29, 2009), 2009 (75 FR 12498, March 16, 2010), 2010 (76 FR 34054, June 10, 2011), 2011 (77 FR 29969, May 21, 2012), and 2012 (78 FR 19446, April 1, 2013), and the draft SAR for 2013 (78 FR 66681, November 6, 2013). The SARs are available at: http://www.nmfs.noaa.gov/pr/sars/.

Summary of Changes to the LOF for 2015

The following summarizes proposed changes to the LOF for 2015, including the fisheries listed in the LOF, the estimated number of vessels/persons in a particular fishery, and the species and/or stocks that are incidentally killed or injured in a particular fishery. The proposed LOF for 2015 proposes no re-classifications of the fisheries provided in the LOF for 2014. NMFS proposes changes to the list of species and/or stocks killed or injured in certain fisheries and the estimated number of vessels/persons in certain fisheries, as well as certain administrative changes. Additionally, NMFS proposes adding 6 Category III fisheries to the LOF and removing 6 fisheries from the LOF. The classifications and definitions of U.S. commercial fisheries for 2015 are identical to those provided in the LOF for 2014 with the proposed changes discussed below. State and regional abbreviations used in the following paragraphs include: AK (Alaska), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Addition of Fisheries

NMFS proposes to add “HI aquarium collecting” as a Category III fishery. This fishery is conducted primarily in Hawaii state waters, and includes fishing with small meshed nets, except throw nets, and small meshed traps for aquatic life that is kept alive for display. The fishery targets coral reef species for the aquarium trade. The fishery is managed by the Hawaii Department of Land and Natural Resources, Division of Aquatic Resources (DAR). An annual permit to collect reef fish is required. Regional bag, slot, and species-specific bans on live harvest may apply in certain designated areas. There have been no documented interactions of this fishery with marine mammals.

Removal of Fisheries

NMFS proposes to remove the Category III “OR salmon ranch” fishery from the LOF because this fishery no longer exists. The salmon ranching industry in Oregon ended in 1994. A commercial salmon ranch in Oregon must have a private salmon hatchery permit issued by the Oregon Department of Fish and Wildlife (ODFW). NMFS contacted the ODFW, which informed us that as of 2013 there are no active private hatchery permits issued by ODFW and no permits are anticipated for the future.

NMFS proposes to remove the Category III “WA herring brush weir” fishery because brush weirs have not been used in the herring fishery since 1994 and the brush weir fishery is considered obsolete. The brush weir, a type of marine impoundment or fish trap, was defined as a gear type for herring harvest by the Washington Department of Fish and Wildlife in 1973, but was removed from the Department's list of lawful gear types for use in the herring fishery in 1994.

NMFS proposes to remove the Category III “WA herring spawn on kelp” fishery as there are currently no participants in this fishery. In 1972, a sac-roe fishery targeting Cherry Point herring stock began in northern Puget Sound. The fishery peaked in the mid-1970s but declines in the north Puget Sound herring stocks, including Cherry Point, led to closure of the fishery by the mid-1980s. In 1988, a non-treaty herring spawn on kelp fishery opened on the Cherry Point stock. However, the decline in Cherry Point herring stock abundance in the mid-1990s led to closure of the spawn on kelp fishery and it has remained closed.

NMFS proposes to remove the Category III “CA abalone” fishery, listed under the “dive, hand/mechanical collection fisheries” section of Table 1 as this is not a commercial fishery. Although there is a limited recreational fishery for abalone, it is illegal to harvest wild abalone for commercial sale anywhere in California.

NMFS proposes to remove the Category III “HI lobster tangle net” fishery from the LOF. The fishery had zero participants in 2011 and 2012, the most recent years for which data are available.

NMFS proposes to remove the Category III “HI charter vessel” fishery from the LOF. Commercial fishing effort with the gears and methods used in charter fishing (e.g., troll, inshore handline, deep sea handline, casting) is already accounted for in those individual fisheries on the LOF.

Fishery Name and Organizational Changes and Clarification

NMFS proposes to rename the Category II “WA coastal Dungeness crab pot/trap” fishery to “WA coastal Dungeness crab pot.” The proposed change will be consistent with state regulations and the name commonly used to describe this fishery. This proposed change will also make the name consistent with the names for the California and Oregon Dungeness crab pot fisheries.

NMFS proposes to rename the Category III “WA/OR North Pacific halibut longline/setline” to the “WA/OR Pacific halibut longline” fishery to reflect that Pacific halibut is the correct common name for the fishery target species Hippoglossus stenolepis. In addition, setline is not used in this fishery and thus is proposed to be eliminated from the current name.

NMFS proposes to rename the Category III “Coastwide scallop dredge” fishery to the “Alaska scallop dredge” because there is no scallop dredge fishery off Washington, Oregon, and California. Dredge gear is prohibited to protect groundfish essential fish habitat (see 50 CFR Section 660.312), and conforming regulations have been adopted by these three coastal states. Alternative gear types (bottom trawl, hand pick/dive) have not been utilized in recent years. The scallop fishery off Alaska harvests weathervane scallops, and there have been no U.S. commercial landings of scallops off the U.S. West Coast south of Alaska since 2006. The State of Alaska has been delegated authority to manage the scallop dredge fishery in state waters and the EEZ off Alaska under the Scallop FMP developed by the North Pacific Fishery Management Council. There is a federally administered license limitation program that limits effort in the fishery.

NMFS proposes to rename the Category III “OR/CA hagfish pot or trap” to the “WA/OR/CA hagfish pot” fishery because the fishery includes participants in Washington. Landings of hagfish from the pot fishery between 2004 and 2008 averaged 50,000 to 100,000 pounds for ports in Washington (Saez et al. 2013). In addition, the fishery is referred to as a pot fishery; therefore, NMFS is proposing to remove the word “trap” from the title.

NMFS proposes to rename the Category I “HI deep-set (tuna target) longline/set line” fishery to “HI deep-set longline.” This fishery uses deep-set longline gear, as defined in regulations (50 CFR 665.800). Specification of the target species in the fishery name is not necessary to differentiate it from shallow-set fishing.

NMFS proposes to rename the Category II “HI shallow-set (swordfish target) longline/set line” fishery to “HI shallow-set longline.” This fishery uses shallow-set longline gear, as defined in regulations (50 CFR 665.800). Specification of the target species in the fishery name is not necessary to differentiate it from deep-set fishing.

NMFS proposes to rename the Category III “HI opelu/akule net” fishery to “HI lift net.” Standard nets used to catch opelu are called lift nets, while standard nets used to catch akule are called purse seine nets (see the “HI purse seine” fishery). These nets have different configurations and are used differently. This proposed change will harmonize state and federal terminology for these fisheries, reduce confusion, and enhance collaborative management.

NMFS proposes to rename Category III “HI hukilau net” fishery to “HI seine net.” Seine net is a broader term, encompassing hukilau. This proposed change will harmonize State and Federal terminology for these fisheries, reduce confusion, and enhance collaborative management.

NMFS proposes to rename the Category III “HI vertical longline” fishery to “HI vertical line.” The fishery uses a vertical mainline less than one nautical mile in length, so it does not meet the State or Federal definition of longline. This proposed change will harmonize State and Federal terminology for these fisheries, reduce confusion, and enhance collaborative management.

NMFS proposes to rename the Category III “HI MHI deep-sea bottomfish handline” fishery to “HI bottomfish handline” to clarify the fishery's target species. This fishery corresponds with the State's deep-sea handline fishing method.

NMFS proposes to rename the Category III “HI tuna handline” fishery to “HI pelagic handline.” The pelagic handline fishery targets tunas and other pelagic fish species. This fishery corresponds with the State's ika-shibi, palu ahi, and hybrid handline fishing methods.

NMFS proposes to split the Category III “CA coonstripe shrimp, rock crab, tanner crab pot or trap” fishery into two Category III fisheries, “CA/OR coonstripe shrimp pot” and “CA rock crab pot,” and eliminate the tanner crab component of the pot fishery. The “CA/OR coonstripe pot” fishery is a relatively small fishery with the majority of effort in northern California with some landings made in Oregon (Saez et al. 2013). Therefore, it is appropriate to revise the name to reflect effort in California and Oregon. The “CA rock crab pot” fishery is a significant fishery throughout much of California. It is distinct in time and area fished, compared to other pot fisheries, and, thus, appropriate to be listed as a separate fishery. In addition, the state of California has regulations in place for managing this fishery. NMFS proposes removing tanner crab from the title because tanner crab is not a target species for an existing pot fishery in California. California established regulations over a decade ago for experimental fishery permits to support the development of a tanner crab fishery; however, no permits have been issued. At this time, there is no expectation that a tanner crab directed pot fishery will develop, thus, NMFS proposes to remove this species as a component of either of the newly named fisheries.

NMFS proposes to split the Category III “HI trolling, rod and reel” fishery into two separate Category III fisheries, the “HI troll” and “HI rod and reel” fisheries. Although the gear types used may be similar in some cases, the methods used are different, which may affect the likelihood of encountering or interacting with marine mammals. Trolling involves fishing by towing or dragging line(s) with artificial lure(s) or dead or live bait, or green stick and danglers using a sail, surf, or motor-powered vessel underway. Rod and reel fishing can be conducted from shore or from an anchored or drifting vessel using a spinning or casting reel (spinning or casting) with baited hooks or lures. We propose to retain Pantropical spotted dolphin (HI stock) on the list of species injured or killed in the HI troll fishery, but not the HI rod and reel fishery, given that fishing in close proximity to groups of spotted dolphins and anecdotal reports of spotted dolphin hookings occur in the troll fishery, but not the rod and reel fishery.

Number of Vessels/Persons

NMFS proposes to update the estimated number of vessels/persons in the commercial fisheries in the Pacific Ocean (Table 1). Updates are based on state and federal fisheries permit data. The estimated number of vessels/persons participating in fisheries operating within U.S. waters is expressed in terms of the number of active participants in the fishery, when possible. If this information is not available, the estimated number of vessels/persons licensed for a particular fishery is provided. If no recent information is available on the number of participants, vessels, or persons licensed in a fishery, then the number from the most recent LOF is used for the estimated number of vessels/persons in the fishery. NMFS acknowledges that, in some cases, these estimates may be inflations of actual effort. However, in these cases, the numbers represent the potential effort for each fishery, given the multiple gear types for which several state permits may allow, and thus the potential impact on marine mammals.

NMFS proposes to update the estimated number of vessels/persons as follows. Fisheries are labeled with their proposed name on the 2015 LOF:

Category | Fishery | Number of vessels/ persons (final 2014 LOF) | Number of vessels/ persons (proposed 2015 LOF)
I | HI deep-set longline | 129 | 128
II | AK Bristol Bay salmon drift gillnet | 1,863 | 1,862
II | AK Bristol Bay salmon set gillnet | 982 | 979
II | AK Cook Inlet salmon set gillnet | 738 | 736
II | AK Peninsula/Aleutian Islands salmon drift gillnet | 114 | 113
II | AK Yakutat salmon set gillnet | 167 | 168
II | AK Cook Inlet salmon purse seine | 82 | 83
II | AK Kodiak salmon purse seine | 379 | 376
II | AK Bering Sea, Aleutian Islands flatfish trawl | 34 | 32
II | AK Bering Sea, Aleutian Islands pollock trawl | 95 | 102
II | AK Bering Sea, Aleutian Islands rockfish trawl | 10 | 17
II | HI shallow-set longline | 20 | 18
II | American Samoa longline | 24 | 25
II | HI shortline | 11 | 6
III | AK Kuskokwim, Yukon, Norton Sound, Kotzebue salmon gillnet | 1,702 | 1,778
III | AK miscellaneous finfish set gillnet | 2 | 54
III | AK Prince William Sound salmon set gillnet | 30 | 29
III | AK roe herring and food/bait herring gillnet | 990 | 920
III | HI inshore gillnet | 36 | 42
III | AK Southeast salmon purse seine | 415 | 315
III | AK miscellaneous finfish beach seine | 1 | 2
III | AK roe herring and food/bait herring beach seine | 6 | 10
III | AK roe herring and food/bait herring purse seine | 367 | 356
III | AK salmon purse seine (excluding salmon purse seine fisheries listed as Category II) | 935 | 936
III | HI lift net | 22 | 21
III | HI throw net, cast net | 29 | 20
III | HI seine net | 26 | 21
III | AK North Pacific halibut, AK bottom fish, WA/OR/CA albacore, groundfish, bottom fish, CA halibut non-salmonid troll fisheries | 1,320 (120 AK) | 1,320 (180 AK)
III | AK salmon troll | 2,008 | 1,908
III | AK Bering Sea, Aleutian Islands Pacific cod longline | 154 | 45
III | AK Bering Sea, Aleutian Islands rockfish longline | 0 | 3
III | AK Bering Sea, Aleutian Islands Greenland turbot longline | 36 | 4
III | AK Bering Sea, Aleutian Islands sablefish longline | 28 | 22
III | AK Gulf of Alaska halibut longline | 1,302 | 855
III | AK Gulf of Alaska Pacific cod longline | 107 | 92
III | AK Gulf of Alaska rockfish longline | 0 | 25
III | AK Gulf of Alaska sablefish longline | 291 | 295
III | AK halibut longline/set line (state and Federal waters) | 2,280 | 2,197
III | AK octopus/squid longline | 2 | 3
III | AK state-managed waters longline/setline (including sablefish, rockfish, lingcod, and miscellaneous finfish) | 1,323 | 464
III | HI kaka line | 17 | 24
III | HI vertical line | 9 | 6
III | AK Bering Sea, Aleutian Islands Atka mackerel trawl | 9 | 13
III | AK Bering Sea, Aleutian Islands Pacific cod trawl | 93 | 72
III | AK Gulf of Alaska flatfish trawl | 41 | 36
III | AK Gulf of Alaska Pacific cod trawl | 62 | 55
III | AK Gulf of Alaska pollock trawl | 62 | 67
III | AK Gulf of Alaska rockfish trawl | 34 | 43
III | AK shrimp otter trawl and beam trawl (statewide and Cook Inlet) | 33 | 38
III | AK statewide miscellaneous finfish pot | 243 | 4
III | AK Aleutian Islands sablefish pot | 8 | 4
III | AK Bering Sea, Aleutian Islands Pacific cod pot | 68 | 59
III | AK Bering Sea, Aleutian Islands crab pot | 296 | 540
III | AK Bering Sea sablefish pot | 6 | 2
III | AK Gulf of Alaska crab pot | 389 | 381
III | AK Gulf of Alaska Pacific cod pot | 154 | 128
III | AK Southeast Alaska crab pot | 415 | 41
III | AK Southeast Alaska shrimp pot | 274 | 269
III | AK shrimp pot, except Southeast | 210 | 236
III | HI crab trap | 9 | 7
III | HI fish trap | 9 | 5
III | HI shrimp trap | 4 | 6
III | HI crab net | 6 | 4
III | HI Kona crab loop net | 48 | 35
III | AK octopus/squid handline | 0 | 7
III | American Samoa bottomfish handline | 12 | 14
III | HI aku boat, pole and line | 3 | < 3
III | HI bottomfish handline | 567 | 578
III | HI inshore handline | 378 | 376
III | HI pelagic handline | 459 | 484
III | AK herring spawn on kelp pound net | 411 | 409
III | AK Southeast herring roe/food/bait pound net | 4 | 2
III | AK scallop dredge | 108 (12 AK) | 108 (5 AK)
III | AK clam | 156 | 130
III | AK herring spawn on kelp | 266 | 339
III | AK urchin and other fish/shellfish | 521 | 398
III | HI fish pond | 16 | 5
III | HI handpick | 57 | 58
III | HI lobster diving | 29 | 23
III | HI spearfishing | 143 | 159

List of Species and/or Stocks Incidentally Killed or Injured in the Pacific Ocean

NMFS proposes to update the list of species and/or stocks incidentally killed or injured by fisheries in the Pacific Ocean (Table 1). The agency notes here that while only mortalities and “serious injuries” are used to categorize fisheries as Category I, II, or III, the list of species and/or stocks incidentally killed or injured includes stocks that have any documented mortalities or injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). NMFS proposes the following updates:

NMFS proposes to add the Central North Pacific stock of humpback whales to the list of species and/or stocks killed or injured in the Category III HI crab trap fishery. From 2007-2011, five humpback whales were reported as entangled in Hawaii trap gear (Lyman 2013, NMFS unpublished data). The gear involved in two of the five entanglements was identified as crab trap gear, the gear involved in one was identified as possibly crab trap gear, and the gear involved in the remaining two could not be identified to a specific trap fishery (NMFS unpublished data). Pre-mitigation injury determinations for the crab trap and possible crab trap entanglements were two serious injuries and one prorated as 0.75 serious injury (Bradford and Lyman 2013, NMFS unpublished data). Based on these data, humpback serious injury and mortality in the crab trap fishery from 2007-2011 is 2.75, with a 5-year annual average of 0.55 per year. The fishery remains a Category III fishery based on the following tier analysis: Tier 1: The stock's PBR level is 61.2 (Allen and Angliss 2013). Total commercial fishery-related mortality and serious injury of this stock from 2007-2011 is an average of 1.1 per year (0.55 from confirmed commercial fisheries, as reported in Allen and Angliss 2013, plus 0.55 from the Hawaii crab trap fishery noted above), which is 1.8% of the stock's PBR. This is less than 10% of the PBR, so a Tier 2 analysis is not necessary. The Hawaii crab trap fishery warrants Category III classification.

NMFS proposes to add the South Central Alaska stock of northern sea otters to the list of species and/or stocks killed or injured in the Category II AK Cook Inlet salmon set gillnet fishery. Sea otter mortalities were documented in set nets in Seldovia Bay and Clam Gulch in 2009.

NMFS proposes to add the South Central Alaska stock of northern sea otters to the list of species and/or stocks killed or injured in the Category III AK Prince William Sound set gillnet fishery. A sea otter mortality was documented in a set net near Egg Island in 2013.

NMFS proposes to add the Alaska stock of ringed seals to the list of species and/or stocks killed or injured in the Category III AK Bering Sea, Aleutian Islands Pacific cod trawl fishery. An observer report documented a ringed seal mortality in 2011.

NMFS proposes to add the Alaska stock of ringed seals to the list of species and/or stocks killed or injured in the Category III AK Bering Sea, Aleutian Islands Pacific cod longline fishery. An observer report documented a ringed seal mortality in 2011.

NMFS proposes to remove the Hawaiian monk seal from the list of species and/or stocks killed or injured in the Category III HI MHI deep sea bottomfish handline fishery (proposed to be renamed “HI bottomfish handline”). Although the SAR reports monk seal hookings in the main Hawaiian Islands, no mortalities or injuries are attributed to the deep-sea bottomfish handline fishery (Carretta et al. 2013).

NMFS proposes to remove the Hawaiian monk seal from the list of species and/or stocks killed or injured in the Category III HI lobster trap fishery. The Hawaiian monk seal has been listed as injured or killed in the lobster trap fishery since the fishery was added to the LOF in 1996. Lobster trap fishing effort in Hawaii is substantially different now than when it was originally added to the LOF. Commercial fishing is now prohibited within the Papahanaumokuakea Marine National Monument in the Northwest Hawaiian Islands, where most lobster trap fishing in Hawaii historically occurred, and lobster trap fishing effort is very low within the main Hawaiian Islands, with fewer than three active commercial fishermen. There are no reports of monk seal entanglements involving this gear since 1986, when one monk seal died in a trap in the Northwestern Hawaiian Islands. The SAR reports no monk seal mortalities or injuries in the fishery (Carretta et al. 2013). NMFS previously retained this species on the list of species and/or stocks injured or killed in this fishery because monk seals in the main Hawaiian Islands are hooked and entangled in fishing gear at a rate that cannot be reliably assessed. However, given the very low fishing effort and lack of any reports of monk seal injuries or mortalities in this fishery in almost 20 years, NMFS proposes to remove the species from the list of species injured or killed in the lobster trap fishery.

Commercial Fisheries in the Atlantic Ocean, Gulf of Mexico, and Caribbean

Addition of Fisheries

NMFS proposes to add the Gulf of Maine sea urchin dredge to the list of Category III fisheries. Sea urchin dredges are used in state waters in the Gulf of Maine to harvest green sea urchins (Strongylocentrotus drobachiensis). This fishery uses dredge gear that has an upturned, sled-like shape at the front that includes several automobile leaf springs tied together with a steel bar. A tow bail is welded to one of the springs and a chain mat is rigged behind the mouth box frame. The frame is fitted with skids or wheels. The springs act as runners, enabling the sled to move over rocks without hanging up. The chain mat scrapes up the urchins. The bag is fitted with a cod-end for ease of emptying. This gear is generally used in depths up to 27.5 m (90ft) (Stevenson et al., 2004). There have been no documented interactions of this fishery with marine mammals. This fishery is not currently observed and is not managed under a federal fishery management plan (FMP).

NMFS proposes to add the Mid-Atlantic blue crab dredge fishery to the list of Category III fisheries. Blue crabs (Callinectes sapidus) are harvested with dredges (or “scrapes”) similar to oyster dredges in state waters in New York, New Jersey, Delaware, Virginia, and North Carolina. Stem-rig dredge boats (approximately 15m (49-ft) long) tow two dredges in tandem from a single chain warp. The dredges are equipped with 10-cm (4-in) long teeth that rake the crabs out of the bottom (Stevenson et al., 2004). There have been no documented interactions of this fishery with marine mammals. This fishery is not currently observed. It is managed under interstate FMPs.

NMFS proposes to add the Mid-Atlantic whelk dredge fishery to the list of Category III fisheries. In this fishery, assorted dredges or rakes may be used to target channeled and knobbed whelks (Busycon canaliculatus and B. carica, respectively) in New York, Delaware, and Virginia (Stevenson et al. 2004). Toothed crab dredges and dredges with a toothless bar or a chain in place of the toothed bar may be used (Bruce 2006). There have been no documented interactions of this fishery with marine mammals. This fishery is not currently observed and is not managed under a federal fishery management plan.

NMFS proposes to add the Mid-Atlantic soft shell clam dredge fishery to the list of Category III fisheries. This fishery uses hydraulic dredges to target soft shell clams (Mya arenaria) in the state waters of Maryland and Virginia. In this fishery, the dredge manifold and blade are located just forward of an escalator, or conveyor belt, that carries the clams to the deck of the vessel. Escalator dredges are typically operated from 15-m (49-ft) vessels in water depths of 2-6 m (7-20 ft). This gear cannot be operated in water depths less than one-half the length of the escalator. Use of the escalator dredge is not managed under federal FMPs. This gear is subject to many of the same state laws and regulations that apply to surf clam and ocean quahog dredges in state waters (Stevenson et al., 2004). There have been no documented interactions of this fishery with marine mammals. This fishery is not currently observed.

List of Species and/or Stocks Incidentally Killed or Injured in the Atlantic Ocean, Gulf of Mexico, and Caribbean

NMFS proposes the following additions to and deletions from the list of marine mammal species and/or stocks incidentally killed or injured in commercial fisheries in the Atlantic, Gulf of Mexico, and Caribbean (Table 2). These additions and deletions are based on information contained in the U.S. Atlantic and Gulf of Mexico Marine Mammal Stock Assessments, strandings data, and/or observer data. The agency notes here that while only mortalities and “serious injuries” are used to categorize fisheries as Category I, II, or III, the list of species and/or stocks incidentally killed or injured includes stocks that have any documented mortalities or injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). NMFS proposes the following updates:

NMFS proposes to add the Canadian East Coast stock of minke whales to the list of species and/or stocks incidentally killed or injured by the Category I Atlantic Ocean, Caribbean, Gulf of Mexico large pelagics longline fishery. In 2010, a minke whale was caught in the pelagic longline fishery, South Atlantic Bight fishing area; it was released alive and not seriously injured (Garrison and Stokes, 2012 cited in Waring et al., 2013).

NMFS proposes to add the Western North Atlantic stock of Kogia species whale (pygmy or dwarf sperm whale) to the list of species and/or stocks incidentally killed or injured in the Category I Atlantic Ocean, Caribbean, and Gulf of Mexico large pelagics longline fishery. A 2011 observer report documented this fishery seriously injuring a Kogia species.

NMFS proposes to add the Western North Atlantic stock of false killer whale to the list of species and/or stocks incidentally killed or injured in the Category I Atlantic Ocean, Caribbean, and Gulf of Mexico large pelagics longline fishery. A 2011 observer report documented a false killer whale injury by this fishery.

NMFS proposes to add the Florida stock of West Indian manatee to the list of species and/or stocks incidentally killed or injured by the Category II Southeastern U.S. Atlantic, Gulf of Mexico shrimp trawl fishery. A manatee was killed in 2010 by the Georgia in-shore bait fishery, which is included in this fishery (USFWS, 2014).

NMFS proposes to update the stock names of bottlenose dolphins on the list of species and/or stocks incidentally killed or injured in Atlantic Ocean, Gulf of Mexico, and Caribbean fisheries to align with recently identified stocks in the SARs. In 2009, NMFS began splitting stock complexes of bottlenose dolphins into individually defined stocks in the SARs. Specifically, the WNA Coastal stocks were split into 15 stocks between 2009 and 2013: 1. Biscayne Bay stock, 2. Central Florida coastal stock, 3. Charleston Estuarine System stock, 4. Florida Bay stock, 5. Indian River Lagoon Estuarine System stock, 6. Jacksonville Estuarine System stock, 7. Northern Florida Coastal stock, 8. Northern Georgia/Southern South Carolina Estuarine System stock, 9. Northern South Carolina Estuarine System stock, 10. Northern Migratory Coastal stock, 11. Northern North Carolina Estuarine System stock, 12. SC/GA coastal, 13. Southern Georgia Estuarine System stock, 14. Southern Migratory coastal, and 15. Southern North Carolina Estuarine System stock.

Bottlenose dolphins on the Atlantic coast were listed on the LOF, through 2010, by the stock complex name “bottlenose dolphin, WNA coastal.” In the 2011-2014 LOFs, newly defined bottlenose dolphin stocks broken out from the WNA coastal complex were added to the list of species and/or stocks incidentally killed or injured by a fishery if they overlapped in time and space with the fishery and if the fishery had been originally listed as interacting with the “WNA coastal” stock. Some newly defined stocks were also added based on spatial and temporal overlap with a fishery take documented in self-reports, strandings data, or observer data. Along the Atlantic coast, there is some uncertainty regarding which of the 15 newly identified bottlenose dolphin stocks or combination of stocks interact with Atlantic fisheries. Due to spatial and temporal overlap of stocks with active fisheries and uncertainty in stock identification for historic takes it is unclear, in some cases, exactly which stock a fishery take should be assigned to and in these instances all potential stocks in range of the take were historically added.

Beginning with this 2015 LOF, we will add a bottlenose dolphin stock to the list of species and/or stocks incidentally killed or injured only if a fishery take can be definitively identified to a specific stock. If the fishery mortality or injury cannot be definitively identified to a particular stock due to multiple stocks overlapping in time and space with the fishery take location, then we will list “bottlenose dolphin, unknown” on the LOF with the potential stock names within range in parentheses. We will review the bottlenose dolphin stocks currently listed on the LOF to ensure that they are consistent with this new approach and include any necessary corrections in future LOFs.

We propose to update the list of species and/or stocks on Table 2 to reflect the following administrative changes:

1. Add the Northern South Carolina estuarine system stock to the Category II Atlantic blue crab trap/pot fishery. Burdett and McFee (2004) reviewed bottlenose dolphin strandings in South Carolina and found bottlenose dolphin entanglements associated with the blue crab fishery.

2. Add unknown stocks of bottlenose dolphin to the Category II Southeastern U.S. Atlantic shark gillnet fishery. We propose to rename the Central Florida coastal stock and Northern Florida coastal stocks as “Bottlenose dolphin, unknown stocks.” There is some uncertainty regarding which of four bottlenose dolphin stocks or combination of stocks interact with the Southeastern U.S. Atlantic shark gillnet fishery. Due to spatial overlap of stocks when the fishery is active and uncertainty in stock identification for historic takes, interactions with this fishery can be either assigned to the Central Florida coastal stock, Northern Florida coastal stock, Southern migratory coastal stock, or South Carolina/Georgia coastal stock.

3. Add unknown stocks of bottlenose dolphin to the Category II North Carolina roe mullet stop net fishery. There is some uncertainty regarding which of the bottlenose dolphin stocks or combination of stocks interact with the North Carolina roe mullet stop net fishery. Due to spatial overlap of stocks when the fishery is active and uncertainty in stock identification for some historic takes, we propose to combine the Southern North Carolina estuarine system stock and the Southern migratory coastal stock as “Bottlenose dolphin, unknown stock.”

NMFS proposes to add two stocks of bottlenose dolphins, Charleston estuarine system and Southern migratory coastal, to the list of the species and/or stocks incidentally killed or injured in the Category II Southeastern U.S. Atlantic, Gulf of Mexico shrimp trawl fishery. We propose to add the Charleston estuarine system stock based on a take reported in a 2013 MMPA mortality/injury report. We propose to add the Southern migratory coastal stock based on a dolphin mortality in 2006 in a fisheries research shrimp trawl.

NMFS proposes to add the Northern North Carolina estuarine system stock of bottlenose dolphins to the list of species and/or stocks incidentally killed or injured in the Category II North Carolina roe mullet stop net fishery. A Northern North Carolina estuarine system bottlenose dolphin mortality was reported in a 2013 MMPA mortality/injury report.

NMFS proposes to add the Northern South Carolina estuarine system stock of bottlenose dolphins to the list of species and/or stocks incidentally killed or injured in the Category III Southeast Atlantic inshore gillnet fishery. Based on strandings data, a mortality in this fishery was documented in 2011.

NMFS proposes to add two stocks of bottlenose dolphins, Choctawhatchee Bay and Florida Bay, to the list of species and/or stocks incidentally killed or injured in the Category III Atlantic Ocean, Gulf of Mexico, Caribbean commercial passenger fishing vessel fishery. In 2008, there was a Choctawhatchee Bay dolphin calf mortality as a result of an attempt to disentangle the animal from monofilament line. We propose to add the Florida Bay stock based on an at-sea observation in 2011 of a Florida Bay dolphin entangled in monofilament.

NMFS proposes to remove the Western North Atlantic stock of gray seal from the list of species and/or stocks incidentally killed or injured in the Category III Gulf of Maine herring and Atlantic mackerel stop seine/weir fishery. According to Waring et al. (2013), there have been no reports of gray seal injuries or deaths caused by the Gulf of Maine herring and Atlantic mackerel stop seine/weir fishery over the past five years. We are soliciting public input through the 2015 Proposed List of Fisheries as to whether or not anecdotal evidence exists for keeping this species listed as a species injured or killed by this Category III fishery.

NMFS proposes to remove the Western North Atlantic stock of long-finned and short-finned pilot whales from the list of species and/or stocks incidentally killed or injured in the Category I Mid-Atlantic gillnet fishery. The last known documented take of a pilot whale (sp.) in this fishery was in 1998.

NMFS proposes to remove the Western North Atlantic stock of Northern bottlenose whale from the list of species and/or stocks incidentally killed or injured in the Category I Atlantic Ocean, Caribbean, Gulf of Mexico large pelagics longline fishery. This species was listed by analogy in the 2007 LOF due to a fishery interaction in 2001 in the U.S. Northeast Distant Waters (NED) experimental pelagic longline fishery in Canadian waters where the animal taken was observed to be seriously injured. Since 2001, there have been no additional takes documented in this fishery despite continued observer coverage in this fishery.

NMFS proposes to make the following typographical corrections to the list of marine mammal species and/or stocks incidentally killed or injured: Remove Northern migratory coastal stock of bottlenose dolphin from the NC roe mullet stop net fishery; add Northern migratory coastal stock of bottlenose dolphin to, and remove Southern North Carolina estuarine system stock of bottlenose dolphin from, the VA pound net fishery; and add Gulf of Mexico stock of Gervais beaked whale to the Atlantic Ocean, Caribbean, Gulf of Mexico large pelagics longline.

NMFS proposes to correct a stock name listed under the Category III Georgia cannonball jellyfish trawl fishery from “Southern South Carolina/Georgia” stock of bottlenose dolphins to “SC/GA coastal” stock.

Commercial Fisheries on the High Seas

Addition of Fisheries

NMFS proposes to add the Northwest Atlantic trawl fishery to the list of Category III fisheries. This fishery is also managed under the Convention on Future Multilateral Cooperation in the Northwest Atlantic Fisheries (16 U.S.C. 5601) and operates in the Northwest Atlantic Fisheries Organization's (NAFO) Regulatory Area (NRA) in accordance with NAFO's Conservation and Enforcement Measures. The NRA is located roughly north of 35° N latitude and west of 42° W longitude in the Northwest Atlantic outside of the Exclusive Economic Zones of the United States, Canada, France (with respect to St. Pierre and Miquelon), and Denmark (with respect to Greenland). Yellowtail flounder, American plaice, wolfish (unclassified), skates, Atlantic cod, haddock, Atlantic halibut, monkfish, redfish, Greenland halibut, shrimp, and Illex squid are the primary target species for this fishery. We propose to list this fishery as Category III because the high seas Northwest Atlantic trawl fishery has operated with 100% observer coverage for the two years of its operation and no marine mammal interactions have been documented.

NMFS proposes to add the Northwest Atlantic bottom longline fishery to the list of Category III fisheries. This fishery is managed under the Convention on Future Multilateral Cooperation in the Northwest Atlantic Fisheries (16 U.S.C. 5601) and operates in the NRA in accordance with NAFO's Conservation and Enforcement Measures. The high seas Northwest Atlantic bottom longline fishery began operation in 2014. Based on analogy to other bottom longline fisheries, we anticipate that this fishery will have a remote likelihood of incidental mortality or serious injury of marine mammals. Therefore, we propose to list this fishery as Category III.

Number of Vessels/Persons

NMFS proposes to update the estimated number of HSFCA permits in multiple high seas fisheries for multiple gear types (Table 3). The proposed updated numbers of HSFCA permits reflect the current number of permits in the NMFS National Permit System database, with the exception of the Western Pacific Pelagic HI deep-set and shallow-set component longline fisheries. The HSFCA permit does not distinguish between deep and shallow-set, therefore, the estimated number of participants from Table 1 for only these fisheries is used. NMFS proposes to update the estimated number of HSFCA permits as follows:

Category | Fishery | Number of HSFCA permits (final 2014 LOF) | Number of HSFCA permits (proposed 2015 LOF)
I | Atlantic Highly Migratory Species Longline | 84 | 83
I | Western Pacific Pelagic (HI Deep-set component) | 124 | 128
II | South Pacific Tuna Fisheries Purse Seine | 40 | 38
II | Western Pacific Pelagic (HI Shallow-set component) | 28 | 18
II | Atlantic Highly Migratory Species Handline/Pole and Line | 3 | 2
II | Pacific Highly Migratory Species Handline/Pole and Line | 46 | 41
II | South Pacific Albacore Troll Handline/Pole and Line | 9 | 8
II | Western Pacific Pelagic Handline/Pole and Line | 5 | 3
II | Atlantic Highly Migratory Species Troll | 4 | 2
II | South Pacific Albacore Troll | 33 | 35
II | South Pacific Tuna Fisheries Troll | 2 | 3
II | Pacific Highly Migratory Species Liners Nei | 3 | 1
III | Pacific Highly Migratory Species Longline | 101 | 100
III | Pacific Highly Migratory Species Purse Seine | 8 | 5
III | Pacific Highly Migratory Species Troll | 262 | 253

List of Species and/or Stocks Incidentally Killed or Injured in High Seas Fisheries

NMFS proposes to update the list of species and/or stocks incidentally killed or injured by fisheries in high seas fisheries (Table 3). The agency notes here that while only mortalities and “serious injuries” are used to categorize fisheries as Category I, II, or III, the list of species and/or stocks incidentally killed or injured includes stocks that have any documented mortalities or injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). The lists of species and/or stocks injured or killed in fisheries that operate both within U.S. waters and on the high seas are identical to their Table 1 or 2 counterparts, except for those with distributions known to occur on only one side of the EEZ boundary. Stock structure on the high seas is unclear or unknown for most species, which leads to uncertainty in stock identification for animals injured or killed on the high seas. Therefore, for Table 3, we report the stock names as identified in the SARs. NMFS proposes the following updates:

NMFS proposes to add the Canadian East Coast stock of minke whales to the list of species incidentally killed or injured by the Category I Atlantic highly migratory species longline fishery. In 2010, a minke whale was caught but released alive with no serious injury in the Category I Atlantic Ocean, Caribbean, Gulf of Mexico large pelagics longline fishery, South Atlantic Bight fishing area (Garrison and Stokes 2012 cited in Waring et al., 2013). The Category I Atlantic highly migratory species longline fishery is considered to be the high seas extension of the Atlantic Ocean, Caribbean, Gulf of Mexico large pelagics longline fishery, utilizing the same gear and fishing practices. Since minke whales may also occur on the high seas and have been documented to interact with the domestic component of this fishery (Garrison and Stokes 2012 cited in Waring et al., 2013), we propose to add the Canadian East Coast stock of minke whale to the list of species incidentally killed or injured in the Atlantic highly migratory species longline fishery.

NMFS proposes to add the Western North Atlantic stock of Kogia spp. whale (pygmy or dwarf sperm whale) to the list of species and/or stocks incidentally killed or injured by Category I Atlantic highly migratory species longline fishery. In 2011, an observer report documented that a Kogia species was seriously injured by the Atlantic Ocean, Caribbean, Gulf of Mexico large pelagics longline fishery. This stock may reside outside of EEZ waters, thus it has the potential to interact with the high seas portion of the pelagic longline fishery.

NMFS proposes to add the Western North Atlantic stock of false killer whales to the list of species incidentally killed or injured by Category I Atlantic highly migratory species longline fishery. In 2011, an observer report documented that a false killer whale was injured by the Atlantic Ocean, Caribbean, Gulf of Mexico large pelagics longline fishery. This stock may reside outside of EEZ waters, thus it has the potential to interact with the high seas portion of the pelagic longline fishery.

NMFS proposes to add the Gulf of Mexico stock of Risso's dolphins to the list of species incidentally killed or injured by Category I Atlantic highly migratory species longline fishery. In 2011, an observer report documented injury to Risso's dolphins by the Atlantic Ocean, Caribbean, Gulf of Mexico large pelagics longline fishery. This stock may reside outside of EEZ waters, thus it has the potential to interact with the high seas portion of the pelagic longline fishery.

NMFS proposes to add the Gulf of Mexico oceanic stock of killer whales to the list of species incidentally killed or injured by the Category I Atlantic highly migratory species longline fishery. In 2008, an observer report documented an entangled killer whale in the Atlantic Ocean, Caribbean, Gulf of Mexico large pelagics longline fishery. This stock may reside outside of EEZ waters, thus it has the potential to interact with the high seas portion of the pelagic longline fishery.

NMFS proposes to add the Western North Atlantic stock of Pantropical spotted dolphins to the to the list of species incidentally killed or injured by Category I Atlantic highly migratory species longline fishery. In 2005, an observer report documented an interaction with the Atlantic Ocean, Caribbean, Gulf of Mexico large pelagics longline fishery. This stock may reside outside of EEZ waters, thus it has the potential to interact with the high seas portion of the pelagic longline fishery.

List of Fisheries

The following tables set forth the list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort, such as for many of the Mid-Atlantic and New England fisheries. However, in these cases, the numbers represent the potential effort for each fishery, given the multiple gear types for which several state permits may allow. Changes made to Mid-Atlantic and New England fishery participants will not affect observer coverage or bycatch estimates, as observer coverage and bycatch estimates are based on vessel trip reports and landings data. Table 1 and 2 serve to provide a description of the fishery's potential effort (state and Federal). If NMFS is able to extract more accurate information on the gear types used by state permit holders in the future, the numbers will be updated to reflect this change. For additional information on fishing effort in fisheries found on Table 1 or 2, contact the relevant regional office (contact information included above in SUPPLEMENTARY INFORMATION).

For high seas fisheries, Table 3 lists the number of valid HSFCA permits currently held. Although this likely overestimates the number of active participants in many of these fisheries, the number of valid HSFCA permits is the most reliable data on the potential effort in high seas fisheries at this time. As noted previously in this rule, the number of HSFCA permits listed in Table 3 for the high seas components of fisheries that also operate within U.S. waters does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fisher self-reports (i.e. MMPA reports), and anecdotal reports. The best available scientific information included in these reports is based on data through 2011. This list includes all species and/or stocks known to be injured or killed in a given fishery but also includes species and/or stocks for which there are anecdotal records of a mortality or injury. Additionally, species identified by logbook entries, stranding data, or fishermen self-reports (i.e., MMPA reports) may not be verified. In Tables 1 and 2, NMFS has designated those species/stocks driving a fishery's classification (i.e., the fishery is classified based on mortalities and serious injuries of a marine mammal stock that are greater than or equal to 50 percent [Category I], or greater than 1 percent and less than 50 percent [Category II], of a stock's PBR) by a “¹” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear used, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the EEZ boundary and therefore operate both within U.S. waters and on the high seas. These fisheries, though listed separately between Table 1 or 2 and Table 3, are considered the same fishery on either side of the EEZ boundary. NMFS has designated those fisheries in each table by a “*” after the fishery's name.

Table 1—List of Fisheries—Commercial Fisheries in the Pacific Ocean
Fishery description | Estimated number of vessels/ persons | Marine mammal species and/or stocks incidentally killed or injured
CATEGORY I
LONGLINE/SET LINE FISHERIES:
HI deep-set longline * ‸ | 128 | Bottlenose dolphin, HI Pelagic. False killer whale, MHI Insular. False killer whale, HI Pelagic.¹ False killer whale, Palmyra Atoll. Pantropical spotted dolphin, HI.
|  | Risso's dolphin, HI. Short-finned pilot whale, HI. Sperm whale, HI. Striped dolphin, HI.
GILLNET FISHERIES:
CA thresher shark/swordfish drift gillnet (≥14 in mesh) * | 19 | Bottlenose dolphin, CA/OR/WA offshore. California sea lion, U.S. Humpback whale, CA/OR/WA. Long-beaked common dolphin, CA. Minke whale, CA/OR/WA. Northern elephant seal, CA breeding.
|  | Northern right-whale dolphin, CA/OR/WA. Pacific white-sided dolphin, CA/OR/WA. Risso's dolphin, CA/OR/WA. Short-beaked common dolphin, CA/OR/WA. Sperm Whale, CA/OR/WA.¹
CATEGORY II
GILLNET FISHERIES:
CA halibut/white seabass and other species set gillnet (>3.5 in mesh) | 50 | California sea lion, U.S. Harbor seal, CA. Humpback whale, CA/OR/WA.¹ Long-beaked common dolphin, CA. Northern elephant seal, CA breeding. Sea otter, CA. Short-beaked common dolphin, CA/OR/WA.
CA yellowtail, barracuda, and white seabass drift gillnet (mesh size ≥3.5 in and <14 in) ² | 30 | California sea lion, U.S. Long-beaked common dolphin, CA. Short-beaked common dolphin, CA/OR/WA.
AK Bristol Bay salmon drift gillnet ² | 1,862 | Beluga whale, Bristol Bay. Gray whale, Eastern North Pacific. Harbor seal, Bering Sea. Northern fur seal, Eastern Pacific. Pacific white-sided dolphin, North Pacific. Spotted seal, AK. Steller sea lion, Western U.S.
AK Bristol Bay salmon set gillnet ² | 979 | Beluga whale, Bristol Bay. Gray whale, Eastern North Pacific. Harbor seal, Bering Sea. Northern fur seal, Eastern Pacific. Spotted seal, AK.
AK Kodiak salmon set gillnet | 188 | Harbor porpoise, GOA.¹ Harbor seal, GOA. Sea otter, Southwest AK. Steller sea lion, Western U.S.
AK Cook Inlet salmon set gillnet | 736 | Beluga whale, Cook Inlet. Dall's porpoise, AK. Harbor porpoise, GOA. Harbor seal, GOA. Humpback whale, Central North Pacific.¹ Sea otter, South Central AK. Steller sea lion, Western U.S.
AK Cook Inlet salmon drift gillnet | 569 | Beluga whale, Cook Inlet. Dall's porpoise, AK. Harbor porpoise, GOA.¹ Harbor seal, GOA. Steller sea lion, Western U.S.
AK Peninsula/Aleutian Islands salmon drift gillnet ² | 162 | Dall's porpoise, AK. Harbor porpoise, GOA. Harbor seal, GOA. Northern fur seal, Eastern Pacific.
AK Peninsula/Aleutian Islands salmon set gillnet ² | 113 | Harbor porpoise, Bering Sea. Steller sea lion, Western U.S.
AK Prince William Sound salmon drift gillnet | 537 | Dall's porpoise, AK. Harbor porpoise, GOA.¹ Harbor seal, GOA. Northern fur seal, Eastern Pacific. Pacific white-sided dolphin, North Pacific. Sea otter, South Central AK. Steller sea lion, Western U.S.¹
AK Southeast salmon drift gillnet | 474 | Dall's porpoise, AK. Harbor porpoise, Southeast AK. Harbor seal, Southeast AK. Humpback whale, Central North Pacific.¹ Pacific white-sided dolphin, North Pacific. Steller sea lion, Eastern U.S.
AK Yakutat salmon set gillnet.² | 168 | Gray whale, Eastern North Pacific. Harbor porpoise, Southeastern AK. Harbor seal, Southeast AK. Humpback whale, Central North Pacific (Southeast AK).
WA Puget Sound Region salmon drift gillnet (includes all inland waters south of US-Canada border and eastward of the Bonilla-Tatoosh line-Treaty Indian fishing is excluded) | 210 | Dall's porpoise, CA/OR/WA. Harbor porpoise, inland WA.¹ Harbor seal, WA inland.
PURSE SEINE FISHERIES: |  |
AK Cook Inlet salmon purse seine | 83 | Humpback whale, Central North Pacific.¹
AK Kodiak salmon purse seine | 376 | Humpback whale, Central North Pacific.¹
TRAWL FISHERIES: |  |
AK Bering Sea, Aleutian Islands flatfish trawl | 32 | Bearded seal, AK. Gray whale, Eastern North Pacific. Harbor porpoise, Bering Sea. Harbor seal, Bering Sea. Humpback whale, Western North Pacific.¹ Killer whale, AK resident.¹
|  | Killer whale, GOA, AI, BS transient.¹ Northern fur seal, Eastern Pacific. Ringed seal, AK. Ribbon seal, AK. Spotted seal, AK. Steller sea lion, Western U.S.¹ Walrus, AK.
AK Bering Sea, Aleutian Islands pollock trawl | 102 | Bearded seal, AK. Dall's porpoise, AK. Harbor seal, AK. Humpback whale, Central North Pacific. Humpback whale, Western North Pacific. Northern fur seal, Eastern Pacific. Ribbon seal, AK. Ringed seal, AK. Spotted seal, AK. Steller sea lion, Western U.S.¹
AK Bering Sea, Aleutian Islands rockfish trawl | 17 | Killer whale, ENP AK resident.¹ Killer whale, GOA, AI, BS transient.¹
POT, RING NET, AND TRAP FISHERIES: |  |
CA spot prawn pot | 28 | Gray whale, Eastern North Pacific. Humpback whale, CA/OR/WA.¹
CA Dungeness crab pot | 570 | Gray whale, Eastern North Pacific. Humpback whale, CA/OR/WA.¹
OR Dungeness crab pot | 433 | Gray whale, Eastern North Pacific. Humpback whale, CA/OR/WA.¹
WA/OR/CA sablefish pot | 309 | Humpback whale, CA/OR/WA.¹
WA coastal Dungeness crab pot | 228 | Gray whale, Eastern North Pacific. Humpback whale, CA/OR/WA.¹
LONGLINE/SET LINE FISHERIES: |  |
HI shallow-set longline * ‸ | 18 | Blainville's beaked whale, HI. Bottlenose dolphin, HI Pelagic. False killer whale, HI Pelagic.¹ Humpback whale, Central North Pacific. Kogia spp. whale (Pygmy or dwarf sperm whale), HI. Risso's dolphin, HI. Short-finned pilot whale, HI. Striped dolphin, HI.
American Samoa longline. ² | 25 | Bottlenose dolphin, unknown. Cuvier's beaked whale, unknown. False killer whale, American Samoa. Rough-toothed dolphin, American Samoa. Short-finned pilot whale, unknown.
HI shortline ² | 6 | None documented.
CATEGORY III
GILLNET FISHERIES:
AK Kuskokwim, Yukon, Norton Sound, Kotzebue salmon gillnet | 1,778 | Harbor porpoise, Bering Sea.
AK miscellaneous finfish set gillnet | 54 | Steller sea lion, Western U.S.
AK Prince William Sound salmon set gillnet | 29 | Harbor seal, GOA. Sea otter, South Central AK. Steller sea lion, Western U.S.
AK roe herring and food/bait herring gillnet | 920 | None documented.
CA set gillnet (mesh size <3.5 in) | 304 | None documented.
HI inshore gillnet | 42 | Bottlenose dolphin, HI. Spinner dolphin, HI.
WA Grays Harbor salmon drift gillnet (excluding treaty Tribal fishing) | 24 | Harbor seal, OR/WA coast.
WA/OR herring, smelt, shad, sturgeon, bottom fish, mullet, perch, rockfish gillnet | 913 | None documented.
WA/OR lower Columbia River (includes tributaries) drift gillnet | 110 | California sea lion, U.S. Harbor seal, OR/WA coast.
WA Willapa Bay drift gillnet | 82 | Harbor seal, OR/WA coast. Northern elephant seal, CA breeding.
MISCELLANEOUS NET FISHERIES: |  |
AK Southeast salmon purse seine | 315 | None documented in the most recent 5 years of data.
AK Metlakatla salmon purse seine | 10 | None documented.
AK miscellaneous finfish beach seine | 2 | None documented.
AK miscellaneous finfish purse seine | 2 | None documented.
AK octopus/squid purse seine | 0 | None documented.
AK roe herring and food/bait herring beach seine | 10 | None documented.
AK roe herring and food/bait herring purse seine | 356 | None documented.
AK salmon beach seine | 31 | None documented.
AK salmon purse seine (excluding salmon purse seine fisheries listed as Category II) | 936 | Harbor seal, GOA.
CA anchovy, mackerel, sardine purse seine | 65 | California sea lion, U.S. Harbor seal, CA.
CA squid purse seine | 80 | Long-beaked common dolphin, CA. Short-beaked common dolphin, CA/OR/WA.
CA tuna purse seine * | 10 | None documented.
WA/OR sardine purse seine | 42 | None documented.
WA (all species) beach seine or drag seine | 235 | None documented.
WA/OR herring, smelt, squid purse seine or lampara | 130 | None documented.
WA salmon purse seine | 75 | None documented.
WA salmon reef net | 11 | None documented.
HI lift net | 21 | None documented.
HI inshore purse seine | <3 | None documented.
HI throw net, cast net | 20 | None documented.
HI seine net | 21 | None documented.
DIP NET FISHERIES: |  |
CA squid dip net | 115 | None documented.
WA/OR smelt, herring dip net | 119 | None documented.
MARINE AQUACULTURE FISHERIES: |  |
CA marine shellfish aquaculture | unknown | None documented.
CA salmon enhancement rearing pen | >1 | None documented.
CA white seabass enhancement net pens | 13 | California sea lion, U.S.
HI offshore pen culture | 2 | None documented.
WA/OR salmon net pens | 14 | California sea lion, U.S. Harbor seal, WA inland waters.
TROLL FISHERIES: |  |
AK North Pacific halibut, AK bottom fish, WA/OR/CA albacore, groundfish, bottom fish, CA halibut non-salmonid troll fisheries * | 1,320 (180 AK) | None documented.
AK salmon troll | 1,908 | Steller sea lion, Eastern U.S. Steller sea lion, Western U.S.
American Samoa tuna troll | 7 | None documented.
CA/OR/WA salmon troll | 4,300 | None documented.
HI troll | 1,755 | Pantropical spotted dolphin, HI.
HI rod and reel | 221 | None documented.
Commonwealth of the Northern Mariana Islands tuna troll | 40 | None documented.
Guam tuna troll | 432 | None documented.
LONGLINE/SET LINE FISHERIES: |  |
AK Bering Sea, Aleutian Islands Pacific cod longline | 45 | Dall's Porpoise, AK. Northern fur seal, Eastern Pacific. Ringed seal, AK.
AK Bering Sea, Aleutian Islands rockfish longline | 3 | None documented.
AK Bering Sea, Aleutian Islands Greenland turbot longline | 4 | Killer whale, AK resident.
AK Bering Sea, Aleutian Islands sablefish longline | 22 | None documented.
AK Gulf of Alaska halibut longline | 855 | None documented.
AK Gulf of Alaska Pacific cod longline | 92 | Steller sea lion, Western U.S.
AK Gulf of Alaska rockfish longline | 25 | None documented.
AK Gulf of Alaska sablefish longline | 295 | Sperm whale, North Pacific.
AK halibut longline/set line (state and Federal waters) | 2,197 | None documented in the most recent 5 years of data.
AK octopus/squid longline | 3 | None documented.
AK state-managed waters longline/setline (including sablefish, rockfish, lingcod, and miscellaneous finfish) | 464 | None documented.
WA/OR/CA groundfish, bottomfish longline/set line | 367 | Bottlenose dolphin, CA/OR/WA offshore.
WA/OR Pacific halibut longline. | 350 | None documented.
CA pelagic longline | 1 | None documented in the most recent 5 years of data.
HI kaka line | 24 | None documented.
HI vertical line | 6 | None documented.
TRAWL FISHERIES: |  |
AK Bering Sea, Aleutian Islands Atka mackerel trawl | 13 | Ribbon seal, AK. Steller sea lion, Western U.S.
AK Bering Sea, Aleutian Islands Pacific cod trawl | 72 | Ringed seal, AK. Steller sea lion, Western U.S.
AK Gulf of Alaska flatfish trawl | 36 | Northern elephant seal, North Pacific.
AK Gulf of Alaska Pacific cod trawl | 55 | Steller sea lion, Western U.S.
AK Gulf of Alaska pollock trawl | 67 | Dall's porpoise, AK. Fin whale, Northeast Pacific. Northern elephant seal, North Pacific. Steller sea lion, Western U.S.
AK Gulf of Alaska rockfish trawl | 43 | None documented.
AK food/bait herring trawl | 4 | None documented.
AK miscellaneous finfish otter/beam trawl | 282 | None documented.
AK shrimp otter trawl and beam trawl (statewide and Cook Inlet) | 38 | None documented.
AK state-managed waters of Cook Inlet, Kachemak Bay, Prince William Sound, Southeast AK groundfish trawl | 2 | None documented.
CA halibut bottom trawl | 53 | None documented.
WA/OR/CA shrimp trawl | 300 | None documented.
WA/OR/CA groundfish trawl | 160-180 | California sea lion, U.S. Dall's porpoise, CA/OR/WA. Harbor seal, OR/WA coast. Northern fur seal, Eastern Pacific. Pacific white-sided dolphin, CA/OR/WA. Steller sea lion, Eastern U.S.
POT, RING NET, AND TRAP FISHERIES: |  |
AK statewide miscellaneous finfish pot | 4 | None documented.
AK Aleutian Islands sablefish pot. | 4 | None documented.
AK Bering Sea, Aleutian Islands Pacific cod pot | 59 | None documented.
AK Bering Sea, Aleutian Islands crab pot | 540 | Grey whale, Eastern North Pacific.
AK Bering Sea sablefish pot | 2 | None documented.
AK Gulf of Alaska crab pot | 381 | None documented.
AK Gulf of Alaska Pacific cod pot | 128 | Harbor seal, GOA.
AK Southeast Alaska crab pot | 41 | Humpback whale, Central North Pacific (Southeast AK).
AK Southeast Alaska shrimp pot | 269 | Humpback whale, Central North Pacific (Southeast AK).
AK shrimp pot, except Southeast | 236 | None documented.
AK octopus/squid pot | 26 | None documented.
AK snail pot | 1 | None documented.
CA/OR coonstripe shrimp pot | 10 | Gray whale, Eastern North Pacific. Harbor seal, CA.
CA rock crab pot | 150 | Gray whale, Eastern North Pacific. Harbor seal, CA
CA spiny lobster | 198 | Gray whale, Eastern North Pacific.
WA/OR/CA hagfish pot | 54 | None documented.
WA/OR shrimp pot/trap | 254 | None documented.
WA Puget Sound Dungeness crab pot/trap | 249 | None documented.
HI crab trap | 7 | Humpback whale, Central North Pacific.
HI fish trap | 5 | None documented.
HI lobster trap | <3 | None documented in recent years.
HI shrimp trap | 6 | None documented.
HI crab net | 4 | None documented.
HI Kona crab loop net | 35 | None documented.
HOOK-AND-LINE, HANDLINE, AND JIG FISHERIES: |  |
AK miscellaneous finfish handline/hand troll and mechanical jig | 456 | None documented.
AK North Pacific halibut handline/hand troll and mechanical jig | 180 | None documented.
AK octopus/squid handline | 7 | None documented.
American Samoa bottomfish | 14 | None documented.
Commonwealth of the Northern Mariana Islands bottomfish | 28 | None documented.
Guam bottomfish | >300 | None documented.
HI aku boat, pole, and line | <3 | None documented.
HI bottomfish handline | 578 | None documented in recent years.
HI inshore handline | 376 | None documented.
HI pelagic handline | 484 | None documented.
WA groundfish, bottomfish jig | 679 | None documented.
Western Pacific squid jig | <3 | None documented.
HARPOON FISHERIES: |  |
CA swordfish harpoon | 30 | None documented.
POUND NET/WEIR FISHERIES: |  |
AK herring spawn on kelp pound net | 409 | None documented.
AK Southeast herring roe/food/bait pound net | 2 | None documented.
HI bullpen trap | <3 | None documented.
BAIT PENS: |  |
WA/OR/CA bait pens | 13 | California sea lion, U.S.
DREDGE FISHERIES: |  |
Alaska scallop dredge | 108 (5 AK) | None documented.
DIVE, HAND/MECHANICAL COLLECTION FISHERIES: |  |
AK abalone | 0 | None documented.
AK clam | 130 | None documented.
AK Dungeness crab | 2 | None documented.
AK herring spawn on kelp | 339 | None documented.
AK urchin and other fish/shellfish | 398 | None documented.
CA sea urchin | 583 | None documented.
HI black coral diving | <3 | None documented.
HI fish pond | 5 | None documented.
HI handpick | 58 | None documented.
HI lobster diving | 23 | None documented.
HI spearfishing | 159 | None documented.
WA/CA kelp | 4 | None documented.
WA/OR sea urchin, other clam, octopus, oyster, sea cucumber, scallop, ghost shrimp hand, dive, or mechanical collection | 637 | None documented.
WA shellfish aquaculture | 684 | None documented.
COMMERCIAL PASSENGER FISHING VESSEL (CHARTER BOAT) FISHERIES: |  |
AK/WA/OR/CA commercial passenger fishing vessel | >7,000 (2,702 AK) | Killer whale, unknown. Steller sea lion, Eastern U.S. Steller sea lion, Western U.S.
LIVE FINFISH/SHELLFISH FISHERIES: |  |
CA nearshore finfish live trap/hook-and-line | 93 | None documented.
HI aquarium collecting | 90 | None documented.
List of Abbreviations and Symbols Used in Table 1: AK—Alaska; CA—California; GOA—Gulf of Alaska; HI—Hawaii; OR—Oregon; WA—Washington; ¹ Fishery classified based on mortalities and serious injuries of this stock, which are greater than or equal to 50 percent (Category I) or greater than 1 percent and less than 50 percent (Category II) of the stock's PBR; ² Fishery classified by analogy; * Fishery has an associated high seas component listed in Table 3; ‸ The list of marine mammal species and/or stocks killed or injured in this fishery is identical to the list of species and/or stocks killed or injured in high seas component of the fishery, minus species and/or stocks have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/ persons | Marine mammal species and/or stocks incidentally killed or injured
CATEGORY I
GILLNET FISHERIES:
Mid-Atlantic gillnet | 5,509 | Bottlenose dolphin, Northern Migratory coastal.¹ Bottlenose dolphin, Southern Migratory coastal.¹ Bottlenose dolphin, Northern NC estuarine system.¹ Bottlenose dolphin, Southern NC estuarine system.¹ Bottlenose dolphin, WNA offshore. Common dolphin, WNA. Gray seal, WNA.
|  | Harbor porpoise, GME/BF. Harbor seal, WNA. Harp seal, WNA. Humpback whale, Gulf of Maine. Minke whale, Canadian east coast. Risso's dolphin, WNA. White-sided dolphin, WNA.
Northeast sink gillnet | 4,375 | Bottlenose dolphin, WNA offshore. Common dolphin, WNA. Fin whale, WNA. Gray seal, WNA. Harbor porpoise, GME/BF.¹ Harbor seal, WNA. Harp seal, WNA.
|  | Hooded seal, WNA. Humpback whale, Gulf of Maine. Long-finned Pilot whale, WNA. Minke whale, Canadian east coast. North Atlantic right whale, WNA. Risso's dolphin, WNA. Short-finned Pilot whale, WNA. White-sided dolphin, WNA.
TRAP/POT FISHERIES:
Northeast/Mid-Atlantic American lobster trap/pot | 11,693 | Harbor seal, WNA. Humpback whale, Gulf of Maine. Minke whale, Canadian east coast. North Atlantic right whale, WNA.¹
LONGLINE FISHERIES:
Atlantic Ocean, Caribbean, Gulf of Mexico large pelagics longline* | 420 | Atlantic spotted dolphin, GMX continental and oceanic. Atlantic spotted dolphin, WNA. Bottlenose dolphin, Northern GMX oceanic. Bottlenose dolphin, WNA offshore. Common dolphin, WNA. Cuvier's beaked whale, WNA. False killer whale, WNA. Gervais beaked whale, GMX. Killer whale, GMX oceanic. Kogia spp. (Pygmy or dwarf sperm whale), WNA.
|  | Long-finned pilot whale, WNA.¹ Mesoplodon beaked whale, WNA. Minke whale, Canadian East coast. Pantropical spotted dolphin, Northern GMX. Pantropical spotted dolphin, WNA. Risso's dolphin, Northern GMX. Risso's dolphin, WNA. Short-finned pilot whale, Northern GMX. Short-finned pilot whale, WNA.¹ Sperm whale, GMX oceanic.
CATEGORY II
GILLNET FISHERIES:
Chesapeake Bay inshore gillnet ² | 1,126 | None documented in the most recent 5 years of data.
Gulf of Mexico gillnet ² | 724 | Bottlenose dolphin, GMX bay, sound, and estuarine. Bottlenose dolphin, Northern GMX coastal. Bottlenose dolphin, Western GMX coastal.
NC inshore gillnet | 1,323 | Bottlenose dolphin, Northern NC estuarine system.¹ Bottlenose dolphin, Southern NC estuarine system.¹
Northeast anchored float gillnet ² | 421 | Harbor seal, WNA. Humpback whale, Gulf of Maine. White-sided dolphin, WNA.
Northeast drift gillnet ² | 311 | None documented.
Southeast Atlantic gillnet ² | 357 | Bottlenose dolphin, Central FL coastal. Bottlenose dolphin, Northern FL coastal. Bottlenose dolphin, SC/GA coastal. Bottlenose dolphin, Southern migratory coastal.
Southeastern U.S. Atlantic shark gillnet | 30 | Bottlenose dolphin, unknown (Central FL, Northern FL, SC/GA coastal, or Southern migratory coastal). North Atlantic right whale, WNA.
TRAWL FISHERIES:
Mid-Atlantic mid-water trawl (including pair trawl) | 322 | Common dolphin, WNA. Long-finned pilot whale, WNA. Risso's dolphin, WNA. Short-finned pilot whale, WNA. White-sided dolphin, WNA.¹
Mid-Atlantic bottom trawl | 631 | Bottlenose dolphin, WNA offshore. Common dolphin, WNA.¹ Gray seal, WNA. Harbor seal, WNA. Long-finned pilot whale, WNA.¹ Risso's dolphin, WNA.¹ Short-finned pilot whale, WNA.¹ White-sided dolphin, WNA.
Northeast mid-water trawl (including pair trawl) | 1,103 | Gray seal, WNA. Harbor seal, WNA. Long-finned pilot whale, WNA.¹ Short-finned pilot whale, WNA.¹ Common dolphin, WNA. White-sided dolphin, WNA.
Northeast bottom trawl | 2,987 | Bottlenose dolphin, WNA offshore. Common dolphin, WNA. Gray seal, WNA. Harbor porpoise, GME/BF. Harbor seal, WNA.
|  | Harp seal, WNA. Long-finned pilot whale, WNA. Minke whale, Canadian East Coast. Short-finned pilot whale, WNA. White-sided dolphin, WNA.¹
Southeastern U.S. Atlantic, Gulf of Mexico shrimp trawl | 4,950 | Atlantic spotted dolphin, GMX continental and oceanic. Bottlenose dolphin, Charleston estuarine system. Bottlenose dolphin, Eastern GMX coastal.¹ Bottlenose dolphin, GMX bay, sound, estuarine.¹ Bottlenose dolphin, GMX continental shelf.
|  | Bottlenose dolphin, Northern GMX coastal. Bottlenose dolphin, SC/GA coastal.¹ Bottlenose dolphin, Southern migratory coastal. Bottlenose dolphin, Western GMX coastal.¹ West Indian manatee, Florida.
TRAP/POT FISHERIES:
Southeastern U.S. Atlantic, Gulf of Mexico stone crab trap/pot ² | 1,282 | Bottlenose dolphin, Biscayne Bay estuarine. Bottlenose dolphin, Central FL coastal. Bottlenose dolphin, Eastern GMX coastal. Bottlenose dolphin, FL Bay. Bottlenose dolphin, GMX bay, sound, estuarine (FL west coast portion). Bottlenose dolphin, Indian River Lagoon estuarine system. Bottlenose dolphin, Jacksonville estuarine system. Bottlenose dolphin, Northern GMX coastal.
Atlantic mixed species trap/pot ² | 3,467 | Fin whale, WNA. Humpback whale, Gulf of Maine.
Atlantic blue crab trap/pot | 8,557 | Bottlenose dolphin, Central FL coastal.¹ Bottlenose dolphin, Charleston estuarine system.¹ Bottlenose dolphin, Indian River Lagoon estuarine system.¹ Bottlenose dolphin, Jacksonville estuarine system.¹ Bottlenose dolphin, Northern FL coastal.¹ Bottlenose dolphin, Northern GA/Southern SC estuarine system.¹
|  | Bottlenose dolphin, Northern Migratory coastal.¹ Bottlenose dolphin, Northern NC estuarine system.¹ Bottlenose dolphin, Northern SC estuarine system. Bottlenose dolphin, SC/GA coastal.¹ Bottlenose dolphin, Southern GA estuarine system.¹ Bottlenose dolphin, Southern Migratory coastal.¹ Bottlenose dolphin, Southern NC estuarine system.¹ West Indian manatee, FL.¹
PURSE SEINE FISHERIES:
Gulf of Mexico menhaden purse seine | 40-42 | Bottlenose dolphin, GMX bay, sound, estuarine. Bottlenose dolphin, Northern GMX coastal.¹ Bottlenose dolphin, Western GMX coastal.¹
Mid-Atlantic menhaden purse seine ² | 5 | Bottlenose dolphin, Northern Migratory coastal. Bottlenose dolphin, Southern Migratory coastal.
HAUL/BEACH SEINE FISHERIES:
Mid-Atlantic haul/beach seine | 565 | Bottlenose dolphin, Northern Migratory coastal.¹ Bottlenose dolphin, Northern NC estuarine system.¹ Bottlenose dolphin, Southern Migratory coastal.¹
NC long haul seine | 372 | Bottlenose dolphin, Northern NC estuarine system ¹ Bottlenose dolphin, Southern NC estuarine system.
STOP NET FISHERIES:
NC roe mullet stop net | 13 | Bottlenose dolphin, Northern NC estuarine system. Bottlenose dolphin, unknown (Southern migratory coastal or Southern NC estuarine system).
POUND NET FISHERIES:
VA pound net | 67 | Bottlenose dolphin, Northern migratory coastal. Bottlenose dolphin, Northern NC estuarine system. Bottlenose dolphin, Southern Migratory coastal.¹
CATEGORY III
GILLNET FISHERIES:
Caribbean gillnet | >991 | None documented in the most recent 5 years of data.
DE River inshore gillnet | (³) | None documented in the most recent 5 years of data.
Long Island Sound inshore gillnet | (³) | None documented in the most recent 5 years of data.
RI, southern MA (to Monomoy Island), and NY Bight (Raritan and Lower NY Bays) inshore gillnet | (³) | None documented in the most recent 5 years of data.
Southeast Atlantic inshore gillnet | (³) | Bottlenose dolphin, Northern SC estuarine system.
TRAWL FISHERIES:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, SC/GA coastal.
MARINE AQUACULTURE FISHERIES:
Finfish aquaculture | 48 | Harbor seal, WNA.
Shellfish aquaculture | (³) | None documented.
PURSE SEINE FISHERIES:
Gulf of Maine Atlantic herring purse seine | >7 | Harbor seal, WNA. Gray seal, WNA.
Gulf of Maine menhaden purse seine | >2 | None documented.
FL West Coast sardine purse seine | 10 | Bottlenose dolphin, Eastern GMX coastal.
U.S. Atlantic tuna purse seine * | 5 | Long-finned pilot whale, WNA. Short-finned pilot whale, WNA.
LONGLINE/HOOK-AND-LINE FISHERIES:
Northeast/Mid-Atlantic bottom longline/hook-and-line | >1,207 | None documented.
Gulf of Maine, U.S. Mid-Atlantic tuna, shark swordfish hook-and-line/harpoon | 428 | Bottlenose dolphin, WNA offshore. Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | <125 | Bottlenose dolphin, Eastern GMX coastal. Bottlenose dolphin, Northern GMX continental shelf.
Southeastern U.S. Atlantic, Gulf of Mexico, and Caribbean pelagic hook-and-line/harpoon | 1,446 | None documented.
U.S. Atlantic, Gulf of Mexico trotline | (³) | None documented.
TRAP/POT FISHERIES:
Caribbean mixed species trap/pot | >501 | None documented.
Caribbean spiny lobster trap/pot | >197 | None documented.
FL spiny lobster trap/pot | 1,268 | Bottlenose dolphin, Biscayne Bay estuarine Bottlenose dolphin, Central FL coastal. Bottlenose dolphin, Eastern GMX coastal. Bottlenose dolphin, FL Bay estuarine.
Gulf of Mexico blue crab trap/pot | 4,113 | Bottlenose dolphin, Eastern GMX coastal. Bottlenose dolphin, GMX bay, sound, estuarine. Bottlenose dolphin, Northern GMX coastal. Bottlenose dolphin, Western GMX coastal. West Indian manatee, FL.
Gulf of Mexico mixed species trap/pot | (³) | None documented.
Southeastern U.S. Atlantic, Gulf of Mexico golden crab trap/pot | 10 | None documented.
U.S. Mid-Atlantic eel trap/pot | (³) | None documented.
STOP SEINE/WEIR/POUND NET/FLOATING TRAP FISHERIES:
Gulf of Maine herring and Atlantic mackerel stop seine/weir | >1 | Harbor porpoise, GME/BF. Harbor seal, WNA Minke whale, Canadian east coast. Atlantic white-sided dolphin, WNA.
U.S. Mid-Atlantic crab stop seine/weir | 2,600 | None documented.
U.S. Mid-Atlantic mixed species stop seine/weir/pound net (except the NC roe mullet stop net) | (³) | Bottlenose dolphin, Northern NC estuarine system.
RI floating trap | 9 | None documented.
DREDGE FISHERIES:
Gulf of Maine sea urchin dredge | (³) | None documented.
Gulf of Maine mussel dredge | (³) | None documented.
Gulf of Maine, U.S. Mid-Atlantic sea scallop dredge | >403 | None documented.
Mid-Atlantic blue crab dredge | (³) | None documented.
Mid-Atlantic soft-shell clam dredge | (³) | None documented.
Mid-Atlantic whelk dredge | (³) | None documented.
U.S. Mid-Atlantic/Gulf of Mexico oyster dredge | 7,000 | None documented.
U.S. Mid-Atlantic offshore surf clam and quahog dredge | (³) | None documented.
HAUL/BEACH SEINE FISHERIES:
Caribbean haul/beach seine | 15 | None documented in the most recent 5 years of data.
Gulf of Mexico haul/beach seine | (³) | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | (³) | None documented.
Gulf of Mexico, Southeast Atlantic, Mid-Atlantic, and Caribbean cast net | (³) | None documented.
COMMERCIAL PASSENGER FISHING VESSEL (CHARTER BOAT) FISHERIES:
Atlantic Ocean, Gulf of Mexico, Caribbean commercial passenger fishing vessel | 4,000 | Bottlenose dolphin, Biscayne Bay estuarine. Bottlenose dolphin, Central FL coastal. Bottlenose dolphin, Choctawhatchee Bay. Bottlenose dolphin, Eastern GMX coastal. Bottlenose dolphin, FL Bay. Bottlenose dolphin, GMX bay, sound, estuarine. Bottlenose dolphin, Indian River Lagoon estuarine system. Bottlenose dolphin, Jacksonville estuarine system.
|  | Bottlenose dolphin, Northern FL coastal. Bottlenose dolphin, Northern GA/Southern SC estuarine. Bottlenose dolphin, Northern GMX coastal. Bottlenose dolphin, Northern migratory coastal. Bottlenose dolphin, Northern NC estuarine. Bottlenose dolphin, Southern migratory coastal. Bottlenose dolphin, Southern NC estuarine system. Bottlenose dolphin, Southern SC/GA coastal. Bottlenose dolphin, Western GMX coastal.
List of Abbreviations and Symbols Used in Table 2: DE—Delaware; FL—Florida; GA—Georgia; GME/BF—Gulf of Maine/Bay of Fundy; GMX—Gulf of Mexico; MA—Massachusetts; NC—North Carolina; SC—South Carolina; VA—Virginia; WNA—Western North Atlantic; ¹ Fishery classified based on mortalities and serious injuries of this stock, which are greater than or equal to 50 percent (Category I) or greater than 1 percent and less than 50 percent (Category II) of the stock's PBR; ² Fishery classified by analogy; * Fishery has an associated high seas component listed in Table 3; ³ Unknown.

Table 3—List of Fisheries—Commercial Fisheries on the High Seas
Fishery description | Number of HSFCA permits | Marine mammal species and/or stocks incidentally killed or injured
Category I
LONGLINE FISHERIES:
Atlantic Highly Migratory Species* | 83 | Atlantic spotted dolphin, WNA. Bottlenose dolphin, Northern GMX oceanic. Bottlenose dolphin, WNA offshore. Common dolphin, WNA. Cuvier's beaked whale, WNA. False killer whale, WNA. Killer whale, GMX oceanic.
|  | Kogia spp. whale (Pygmy or dwarf sperm whale), WNA. Long-finned pilot whale, WNA. Mesoplodon beaked whale, WNA. Minke whale, Canadian East coast. Pantropical spotted dolphin, WNA. Risso's dolphin, GMX. Risso's dolphin, WNA. Short-finned pilot whale, WNA
Western Pacific Pelagic (HI Deep-set component) * ‸ | 128 | Bottlenose dolphin, HI Pelagic. False killer whale, HI Pelagic. Pantropical spotted dolphin, HI. Risso's dolphin, HI. Short-finned pilot whale, HI. Sperm whale, HI. Striped dolphin, HI.
Category II
DRIFT GILLNET FISHERIES:
Atlantic Highly Migratory Species | 1 | Undetermined.
Pacific Highly Migratory Species * ‸ | 4 | Long-beaked common dolphin, CA. Humpback whale, CA/OR/WA. Northern right-whale dolphin, CA/OR/WA. Pacific white-sided dolphin, CA/OR/WA. Risso's dolphin, CA/OR/WA. Short-beaked common dolphin, CA/OR/WA.
TRAWL FISHERIES:
Atlantic Highly Migratory Species ** | 1 | Undetermined.
CCAMLR | 0 | Antarctic fur seal.
Western Pacific Pelagic | 0 | Undetermined.
PURSE SEINE FISHERIES:
South Pacific Tuna Fisheries | 38 | Undetermined.
Western Pacific Pelagic | 3 | Undetermined.
LONGLINE FISHERIES:
CCAMLR | 0 | None documented.
South Pacific Albacore Troll | 13 | Undetermined.
South Pacific Tuna Fisheries ** | 8 | Undetermined.
Western Pacific Pelagic (HI Shallow-set component) * ‸ | 18 | Blainville's beaked whale, HI. Bottlenose dolphin, HI Pelagic. False killer whale, HI Pelagic. Humpback whale, Central North Pacific. Kogia spp. whale (Pygmy or dwarf sperm whale), HI.
|  | Risso's dolphin, HI. Short-beaked common dolphin, CA/OR/WA. Short-finned pilot whale, HI. Striped dolphin, HI.
HANDLINE/POLE AND LINE FISHERIES:
Atlantic Highly Migratory Species | 2 | Undetermined.
Pacific Highly Migratory Species | 41 | Undetermined.
South Pacific Albacore Troll | 8 | Undetermined.
Western Pacific Pelagic | 3 | Undetermined.
TROLL FISHERIES:
Atlantic Highly Migratory Species | 2 | Undetermined.
South Pacific Albacore Troll | 35 | Undetermined.
South Pacific Tuna Fisheries ** | 3 | Undetermined.
Western Pacific Pelagic | 19 | Undetermined.
LINERS NEI FISHERIES:
Pacific Highly Migratory Species ** | 1 | Undetermined.
South Pacific Albacore Troll | 1 | Undetermined.
Western Pacific Pelagic | 1 | Undetermined.
Category III
LONGLINE FISHERIES:
Northwest Atlantic Bottom Longline | 1 | None documented.
Pacific Highly Migratory Species * | 100 | None documented in the most recent 5 years of data.
PURSE SEINE FISHERIES:
Pacific Highly Migratory Species * ‸ | 8 | None documented.
TRAWL FISHERIES:
Northwest Atlantic | 1 | None documented.
TROLL FISHERIES:
Pacific Highly Migratory Species * | 253 | None documented.
List of Terms, Abbreviations, and Symbols Used in Table 3:
GMX—Gulf of Mexico; NEI—Not Elsewhere Identified; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
‸ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I Mid-Atlantic gillnet. Northeast/Mid-Atlantic American lobster trap/pot. Northeast sink gillnet.
| Category II Atlantic blue crab trap/pot. Atlantic mixed species trap/pot. Northeast anchored float gillnet. Northeast drift gillnet. Southeast Atlantic gillnet. Southeastern U.S. Atlantic shark gillnet.* Southeastern, U.S. Atlantic, Gulf of Mexico stone crab trap/pot.‸
Bottlenose Dolphin Take Reduction Plan (BDTRP)—50 CFR 229.35 | Category I Mid-Atlantic gillnet.
| Category II Atlantic blue crab trap/pot. Chesapeake Bay inshore gillnet fishery. Mid-Atlantic haul/beach seine. Mid-Atlantic menhaden purse seine. NC inshore gillnet. NC long haul seine. NC roe mullet stop net. Southeast Atlantic gillnet. Southeastern U.S. Atlantic shark gillnet. Southeastern U.S. Atlantic, Gulf of Mexico shrimp trawl.‸ Southeastern, U.S. Atlantic, Gulf of Mexico stone crab trap/pot.‸ VA pound net.
False Killer Whale Take Reduction Plan (FKWTRP)—50 CFR 229.37 | Category I HI deep-set longline.
| Category II HI shallow-set longline.
Harbor Porpoise Take Reduction Plan (HPTRP)—50 CFR 229.33 (New England) and 229.34 (Mid-Atlantic) | Category I Mid-Atlantic gillnet. Northeast sink gillnet.
Pelagic Longline Take Reduction Plan (PLTRP)—50 CFR 229.36 | Category I Atlantic Ocean, Caribbean, Gulf of Mexico large pelagics longline.
Pacific Offshore Cetacean Take Reduction Plan (POCTRP)—50 CFR 229.31 | Category I CA thresher shark/swordfish drift gillnet (≥14 in mesh).
Atlantic Trawl Gear Take Reduction Team (ATGTRT) | Category II Mid-Atlantic bottom trawl. Mid-Atlantic mid-water trawl (including pair trawl). Northeast bottom trawl. Northeast mid-water trawl (including pair trawl).
* Only applicable to the portion of the fishery operating in U.S. waters; ‸ Only applicable to the portion of the fishery operating in the Atlantic Ocean.

Classification

The Chief Counsel for Regulation of the Department of Commerce has certified to the Chief Counsel for Advocacy of the Small Business Administration (SBA) that this rule would not have a significant economic impact on a substantial number of small entities. On June 20, 2013, the Small Business Administration (SBA) issued a final rule revising the small business size standards for several industries effective July 22, 2013 (78 FR 37398). The rule increased the size standard for Finfish Fishing from $4.0 to $19.0 million, Shellfish Fishing from $4.0 to $5.0 million, and Other Marine Fishing from $4.0 to $7.0 million. NMFS has reviewed the analyses prepared for this action in light of the new size standards. Under the former, lower size standards, all entities subject to this action were considered small entities, thus they all would continue to be considered small under the new standards. The factual basis leading to the certification is set forth below.

Under existing regulations, all individuals participating in Category I or II fisheries must register under the MMPA and obtain an Authorization Certificate. The Authorization Certificate authorizes the taking of non-endangered and non-threatened marine mammals incidental to commercial fishing operations. Additionally, individuals may be subject to a TRP and requested to carry an observer. NMFS has estimated that up to approximately 58,500 fishing vessels, most with annual revenues below the SBA's small entity thresholds, may operate in Category I or II fisheries. As fishing vessels operating in Category I or II fisheries, they are required to register with NMFS. No fishing vessels are new to a Category I or II fishery as a result of this proposed rule. The MMPA registration process is integrated with existing state and Federal licensing, permitting, and registration programs. Therefore, individuals who have a state or Federal fishing permit or landing license, or who are authorized through another related state or Federal fishery registration program, are currently not required to register separately under the MMPA or pay the $25 registration fee. Therefore, this proposed rule would not impose any direct costs on small entities.

If a vessel is requested to carry an observer, vessels will not incur any direct economic costs associated with carrying that observer. Potential indirect costs to vessels required to take observers may include: lost space on deck for catch, lost bunk space, and lost fishing time due to time needed by the observer to process bycatch data. For effective monitoring, however, observers will rotate among a limited number of vessels in a fishery at any given time and each vessel within an observed fishery has an equal probability of being requested to accommodate an observer. Therefore, the potential indirect costs to vessels are expected to be minimal, because observer coverage would only be required for a small percentage of a vessels' total annual fishing time. In addition, section 118 of the MMPA states that an observer is not required to be placed on a vessel if the facilities for quartering an observer or performing observer functions are inadequate or unsafe, thereby exempting vessels too small to accommodate an observer from this requirement. As a result of this certification, an initial regulatory flexibility analysis is not required and was not prepared. In the event that reclassification of a fishery to Category I or II results in a TRP, economic analyses of the effects of that TRP would be summarized in subsequent rulemaking actions.

This proposed rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal mortalities or injuries has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This proposed rule has been determined to be not significant for the purposes of Executive Order 12866.

An environmental assessment (EA) was prepared under the National Environmental Policy Act (NEPA) in 1995 and 2005. The 1995 EA examined the effects of regulations implementing section 118 of the 1994 Amendments of the MMPA on the affected environment. The 2005 EA analyzed the environmental impacts of continuing the existing scheme (as described in the 1995 EA) for classifying fisheries on the LOF. The 1995 EA and the 2005 EA concluded that implementation of MMPA section 118 regulations would not have a significant impact on the human environment. NMFS reviewed the 2005 EA in 2009. NMFS concluded that because there were no changes to the process used to develop the LOF and implement section 118 of the MMPA, there was no need to update the 2005 EA. NMFS initiated an EA for the LOF in 2013, but the assessment was never finalized because the no action alternative described in the 2005 EA is still the preferred alternative. This rule would not change NMFS' current process for classifying fisheries on the LOF; therefore, this rule is not expected to change the analysis or conclusion of the 2005 EA, and no update is needed. If NMFS takes a management action, for example, through the development of a TRP, NMFS would first prepare an environmental document, as required under NEPA, specific to that action.

This proposed rule would not affect species listed as threatened or endangered under the Endangered Species Act (ESA) or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Allen, B.M. and R.P. Angliss, editors. 2013. Alaska Marine Mammal Stock Assessments, 2013 (Draft). NOAA Tech. Memo. NMFS-AFSC-xxx. 261 p. Available at: http://www.nmfs.noaa.gov/pr/sars/pdf/ak2013_draft.pdf.

Bradford, A.L. and E. Lyman. 2013. Injury determinations for humpback whales and other cetaceans reported to the Pacific Islands Region Marine Mammal Response Network during 2007-2011. PIFSC Working Paper WP-13-005. 15 p.

Bruce, D.G. 2006. The whelk dredge fishery of Delaware. Journal of Shellfish Research. 25(1). 1-13.

Burdett, L.G. and W.E. McFee. 2004. Bycatch of bottlenose dolphins in South Carolina, USA, and an evaluation of the Atlantic blue crab fishery categorization. J. Cetacean Res. Manage. 6(3): 231-240.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2013. U.S. Pacific Marine Mammal Stock Assessments: 2013 (Draft). NOAA Technical Memorandum NOAA-TM-NMFS-SWFSC-xxx. 306 p. Available at: http://www.nmfs.noaa.gov/pr/sars/pdf/po2013_draft.pdf.

Lyman, E. 2013. 2012-2013 Hawaii Large Whale Entanglements and Response Efforts around the Main Hawaiian Islands—Season-end Report. Hawaiian Islands Humpback Whale National Marine Sanctuary. May 22, 2013. 15 p. Available at: http://hawaiihumpbackwhale.noaa.gov/res/pdfs/ss2013disentangle.pdf.

Saez, L., D. Lawson, M. DeAngelis, E. Petras, S. Wilkin, and C. Fahy. 2013. Understanding the co-occurrence of large whales and commercial fixed gear fisheries off the west coast of the United States. NOAA Technical Memorandum NMFS-SWR-044.

Stevenson, D., L. Chiarella, D. Stephan, R. Reid, K. Wilhelm, J. McCarthy, and M. Pentony. 2004. Characterization of the Fishing Practices and Marine Benthic Ecosystems of the Northeast U.S. Shelf, and an Evaluation of the Potential Effects of Fishing on Essential Fish Habitat. NOAA Technical Memorandum NMFS-NE-181.

USFWS. 2014. West Indian Manatee Stock Assessment Report. Jacksonville, FL, USA. Accessed July 23, 2014. Available at: http://www.fws.gov/northflorida/manatee/SARS/FR00001606_Final_SAR_WIM_FL_Stock.pdf

Waring, G.T., E. Josephson, K. Maze-Foley, and P.E. Rosel, editors. 2013. Draft U.S. Atlantic and Gulf of Mexico Marine Mammal Stocks Assessments, 2013. NOAA Technical Memorandum NOAA-NE-xxx. 543 p. Available at: http://www.nmfs.noaa.gov/pr/sars/pdf/ao2013_draft.pdf.

Dated: August 19, 2014.
Samuel D. Rauch III,
Deputy Assistant Administrator for Regulatory Programs, National Marine Fisheries Service.

[FR Doc. 2014-20159 Filed 8-22-14; 8:45 am]

BILLING CODE 3510-22-P